DEPARTMENT OF STATE

[Public Notice 8362]

In the Matter of the Designation of Eric Breininger as a Specially Designated Global Terrorist Pursuant To Section 1(b) of Executive Order 13224, as Amended

In accordance with section 1(b) of Executive Order 13224 of September 23, 2001, as amended (“the Order”), I hereby determine that the individual known as Eric Breininger, also known as Abdul-Gaffar, also known as Abdulgaffar el Almani, no longer meets the criteria for designation under the Order, and therefore I hereby revoke the designation of the aforementioned individual as a Specially Designated Global Terrorist pursuant to section 1(b) of the Order.

This notice shall be published in the Federal Register.

Dated: June 19, 2013.
John F. Kerry,
Secretary of State.

[FR Doc. 2013-15551 Filed 6-27-13; 8:45 am]

BILLING CODE 4710-10-P